DEPARTMENT OF STATE

22 CFR Parts 96 and 104

[Public Notice PN-5338]

International Trafficking in Persons: Interagency Sharing of Information and Coordination of Activities; Technical Amendment

AGENCY: State Department.

ACTION: Final rule; technical amendment.

SUMMARY: This rule was originally published in the Federal Register on October 13, 2005 (70 FR 59654). It implemented Section 105 of the Trafficking Victims Protection Act of 2000, as amended by Trafficking Victims Protection Reauthorization Act of 2003. Because of an inadvertent error in the assignment of the correct part in the Code of Federal Regulations for this rule, the Department of State is redesignating the part from part 96 to part 104. The related section numbers are being redesignated from §§ 96.1 and 96.2 to §§ 104.1 and 104.2, respectively. There are no substantive or other changes to the regulations themselves.

DATES: This rule is effective March 9, 2006.

FOR FURTHER INFORMATION CONTACT: Jennifer Topping, U.S. Department of State, Office to Monitor and Combat Trafficking in Persons (SA-22), 1800 G Street, NW., Suite 2201, Washington, DC 20520; 202-312-9639 or e-mail TIPprograms@state.gov.

SUPPLEMENTARY INFORMATION: The rule on International Trafficking in Persons: Interagency Sharing of Information and Coordination of Activities (TIP rule) was originally published in the Federal Register on October 13, 2005 (70 FR 59654). It implemented Section 105 of the Trafficking Victims Protection Act of 2000, as amended by the Trafficking Victims Protection Reauthorization Act of 2003. The rule was assigned to part 96 of Title 22 of the Code of Federal Regulations (CFR). The Department of State published another final rule, regarding certain aspects of intercountry adoptions, in the Federal Register on February 15, 2006 (71 FR 8063), a portion of which was also assigned to Part 96 but which has not yet been incorporated into the CFR. That final rule was published in the Federal Register as a proposed rule on September 15, 2003 (68 FR 54064). Because the Department desires to keep all of its regulations related to intercountry adoptions in the same subchapter and the intercountry adoption rule was published as a proposed rule prior to the publication of the TIP rule, the Department is amending its regulations to redesignate part 956 to part 104. The related section numbers are being redesignated from §§ 96.1 and 96.2 to §§ 104.1 and 104.2, respectively. There are no substantive or other changes to the regulations themselves.

Persons with access to the Internet may also view this notice by going to the regulations.gov Web site at: http://www.regulations.gov/index.cfm.

List of Subjects in 22 CFR Parts 96 and 104

Administrative practice and procedure.

For the reasons set forth above, 22 CFR chapter I is amended as follows:

PART 96—INTERNATIONAL TRAFFICKING IN PERSONS: INTERAGENCY COORDINATION OF ACTIVITIES AND TRAFFICKING IN PERSONS [Redesignated as Part 104]

1. The authority citation for part 96 continues to read as follows:

Authority: 22 U.S.C. 7103(f)(5); Executive Order 13257 (as amended by Executive Order 13333).

Subchapter K—Economic and Other Functions

2. The heading of subchapter K is revised to read as set forth above.

3. Part 96 published in the Federal Register on October 13, 2005 (70 FR 59654) is redesignated as part 104 and transferred to subchapter K.

Dated: March 3, 2006.
Holly West-Owen,
Federal Register Liaison, Bureau of Administration, Department of State.

[FR Doc. 06-2251 Filed 3-8-06; 8:45 am]

BILLING CODE 4710-17-M